FEDERAL DEPOSIT INSURANCE CORPORATION

12 CFR Part 328

RIN 3064-AF26

FDIC Official Signs and Advertising Requirements, False Advertising, Misrepresentation of Insured Status, and Misuse of the FDIC's Name or Logo

AGENCY: Federal Deposit Insurance Corporation (FDIC).

ACTION: Final rule; delay of compliance date.

SUMMARY: On December 20, 2023, the FDIC adopted a final rule that, among other things, amended the FDIC's sign and advertising requirements for insured depository institutions (IDIs). The amendments made by the final rule took effect on April 1, 2024; however, full compliance with the amendments was extended to January 1, 2025.

The FDIC is delaying the compliance date for the new sign and advertising requirements for IDIs in the final rule to May 1, 2025. This delay will provide additional opportunity for IDIs to establish processes and systems, and make technological updates, necessary to implement the new regulatory requirements.

DATES: The compliance date for the amendments to subpart A of 12 CFR part 328 in the final rule published at 89 FR 3504 on January 18, 2024, is delayed to May 1, 2025.

FOR FURTHER INFORMATION CONTACT: Division of Depositor and Consumer Protection: Luke H. Brown, Associate Director, 202-898-3842, LuBrown@FDIC.gov; Meron Wondwosen, Chief, Supervisory Policy, 202-898-7211, MeWondwosen@FDIC.gov; Edward J. Hof, Senior Policy Analyst, 202-898-7213, EdwHof@FDIC.gov. Legal Division: Chantal Hernandez, Counsel, 202-898-7388, ChHernandez@FDIC.gov; Shane Bogusz, Attorney, 202-898-6571, SBogusz@FDIC.gov.

SUPPLEMENTARY INFORMATION: On December 20, 2023, the FDIC Board of Directors adopted a final rule revising the sign and advertising regulations implementing section 18(a) of the Federal Deposit Insurance Act.¹ On January 18, 2024 (89 FR 3504), the final rule was published in the Federal Register.

¹ 12 U.S.C. 1828(a).

The final rule became effective on April 1, 2024, and required full compliance with the rule by January 1, 2025. Based upon feedback from IDIs and other banking industry participants, the FDIC understands that some IDIs would find it beneficial to have additional time beyond the January 1, 2025, compliance date to implement the new regulatory requirements under subpart A of 12 CFR part 328. In particular, some IDIs have reported they continue to update online systems and platforms, and have requested additional time to meet the new requirements under subpart A. To provide additional opportunity for IDIs to put in place processes and systems, and make technological updates, the FDIC is delaying the compliance date for amendments to subpart A of 12 CFR part 328 from January 1, 2025, to May 1, 2025. The compliance date for the final rule amendments to subpart B of 12 CFR part 328 remains January 1, 2025.

The FDIC has also received a number of questions from industry participants regarding the application of the new requirements. In response, the FDIC has published two sets of “Questions and Answers” ² addressing certain issues raised by industry participants. The FDIC has continued to receive requests for additional clarity. The FDIC will continue to evaluate questions that have been received and will endeavor to make any additional potential “Questions and Answers” publicly available by November 30, 2024, to facilitate effective compliance by the May 1, 2025, compliance date.

² https://www.fdic.gov/deposit-insurance/questions-and-answers-related-fdics-part-328-final-rule.

Federal Deposit Insurance Corporation.
By order of the Board of Directors.
Dated at Washington, DC, on October 17, 2024.
James P. Sheesley,
Assistant Executive Secretary.

[FR Doc. 2024-24433 Filed 10-21-24; 8:45 am]

BILLING CODE 6714-01-P